DEPARTMENT OF COMMERCE

International Trade Administration

Announcement of Approved International Trade Administration Trade Mission

AGENCY: International Trade Administration, Department of Commerce.

SUMMARY: The United States Department of Commerce, International Trade Administration (ITA), is announcing one upcoming trade mission that will be recruited, organized, and implemented by ITA. This mission is: U.S. Industry Program (USIP) at the International Atomic Energy Agency (IAEA) General Conference in Vienna, Austria—September 15-18, 2024. A summary of the mission is found below. Application information and more detailed mission information, including the commercial setting and sector information, can be found at the trade mission website: https://www.trade.gov/trade-missions. For this mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jonathan Chesebro, Senior Nuclear Trade Specialist, International Trade Administration, U.S. Department of Commerce, 1401 Constitution Avenue NW, Washington, DC 20230; telephone (202) 603-4968 or email jonathan.chesebro@trade.gov.

SUPPLEMENTARY INFORMATION:

The Following Conditions for Participation Will Be Used for the Mission

Applicants must submit a completed and signed mission application and supplemental application materials, including adequate information on their products and/or services, primary market objectives, and goals for participation that is adequate to allow the U.S. Department of Commerce (DOC) to evaluate their application. If the DOC receives an incomplete application, the Department may either: reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51 percent U.S. content. Each applicant must certify that one's organization is not majority owned or controlled by a foreign government entity (or foreign government entities).

A trade association/organization applicant must certify to the above for all of the companies it seeks to represent on the mission. In addition, each applicant must:

• Certify that the products and services that it wishes to market through the mission would be in compliance with U.S. export controls and regulations;

• Certify that it has identified any matter pending before any bureau or office in the DOC;

• Certify that it has identified any pending litigation (including any administrative proceedings) to which it is a party that involves the DOC; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers and trade associations/organizations providing or promoting U.S. products and services that have an interest in entering or expanding their business in the mission's destination country. The following criteria will be evaluated in selecting participants:

• Suitability of the applicant's (or in the case of a trade association/organization, represented firm's or service provider's) products or services to these markets;

• The applicant's (or in the case of a trade association/organization, represented firm's or service provider's) potential for business in the markets, including likelihood of exports resulting from the mission; and

• Consistency of the applicant's (or in the case of a trade association/organization, represented firm's or service provider's) goals and objectives with the stated scope of the mission.

Balance of company size and location may also be considered during the review process.

Referrals from a political party or partisan political group or any information, including on the application, containing references to political contributions or other partisan political activities will be excluded from the application and will not be considered during the selection process. The sender will be notified of these exclusions.

Definition of Small- and Medium-Sized Enterprise

For purposes of assessing participation fees, an applicant is a small or medium-sized enterprise (SME) if it qualifies as a “small business” under the Small Business Administration's (SBA) size standards (https://www.sba.gov/document/support—table-size-standards), which vary by North American Industry Classification System (NAICS) Code. The SBA Size Standards Tool (https://www.sba.gov/size-standards) can help you determine the qualifications that apply to your company.

Mission List: (additional information about trade missions can be found at https://www.trade.gov/trade-missions).

U.S. Industry Program (USIP) at the International Atomic Energy Agency (IAEA) General Conference in Vienna, Austria—September 15-18, 2024

Summary

The U.S. Department of Commerce's (DOC) International Trade Administration (ITA), with participation from the U.S. Departments of Energy and State, is organizing its annual U.S. Industry Program at the International Atomic Energy Agency (IAEA) General Conference, to be held September 15-18, 2024, in Vienna, Austria. The IAEA General Conference is the premier global meeting of civil nuclear policymakers and typically attracts senior officials and industry representatives from all 178 Member States. The U.S. Industry Program is part of the DOC's Civil Nuclear Trade Initiative, a U.S. Government (USG) effort to help U.S. civil nuclear companies identify and capitalize on commercial civil nuclear opportunities around the world. The purpose of the program is to demonstrate high level USG support for the U.S. nuclear industry to promote its services and technologies to an international audience, including senior energy policymakers from current and emerging markets as well as IAEA staff.

Representatives of U.S. companies from across the U.S. civil nuclear supply chain are eligible to participate. In addition, organizations providing related services to the industry, such as universities, research institutions, and U.S. civil nuclear trade associations, are eligible for participation. The mission will help U.S. participants gain market insights, make industry contacts, solidify business strategies, and identify or advance specific projects with the goal of increasing U.S. civil nuclear exports to a wide variety of countries interested in nuclear energy. A senior DOC official will lead the U.S. industry delegation.

The schedule includes: meetings with foreign delegations and discussions with senior USG officials on important civil nuclear topics including regulatory, technology and standards, liability, public acceptance, export controls, financing, infrastructure development, and R&D cooperation. Past U.S. Industry Programs have included participation by the U.S. Secretary of Energy, the Chair of the U.S. Nuclear Regulatory Commission (NRC) and senior USG officials from the Departments of Commerce, Energy, State, the Export-Import Bank of the United States and the National Security Council.

There are significant opportunities for U.S. businesses in the global civil nuclear energy market. With 58 reactors currently under construction in 15 countries and 160 nuclear plant projects planned in 27 countries over the next 8-10 years, this translates to a market demand for equipment and services totaling $500-740 billion over the next ten years.

Commercial Setting

The IAEA General Conference is the premier global meeting of civil nuclear policymakers, and typically attracts over 1,200 senior officials and industry representatives from all 178 IAEA Member States. As such, it is an opportunity to highlight the breadth and depth of the U.S. civil nuclear sector to foreign energy policymakers and potential customers. The U.S. Industry Program will provide opportunities for U.S. industry representatives to meet with USG representatives and discuss key issues of interest for civil nuclear exporters. The program will also feature briefings from foreign government representatives, providing opportunities for participants to develop contacts in potential export markets, and to secure future deals.

Mission Goals

The purpose of the U.S. Industry Program is to highlight the benefits of U.S. civil nuclear technology to foreign decision makers in key export markets and to enable representatives from the U.S. public and private sector to discuss U.S. industry's role in the safe and secure expansion of civil nuclear power worldwide. U.S. participants will also have the opportunity to network and build relationships in the global civil nuclear sector, interact with foreign government and industry officials, and learn more about current and future project opportunities. Foreign government participants will hear about the expertise that U.S. industry has amassed in this sector and may learn how to better partner with U.S. industry on future nuclear power projects.

Mission Scenario

On Sunday September 15, trade mission participants will have one-on-one meetings with visiting ITA staff from top export markets as part of ITA's Showtime Program (meetings are subject to availability of visiting ITA staff). On Monday, September 16, mission participants will begin with a Policymaker's Roundtable and an interagency USG briefing featuring discussion sessions and remarks by senior officials from the U.S. Departments of Commerce, Energy and State, and the NRC. In addition, meetings with foreign delegation officials from some of the top markets for U.S. civil nuclear exports will take place on Monday, Tuesday, and Wednesday. Approximately ten such meetings will be planned throughout the duration of the event. On Tuesday, the U.S. delegation will host a reception to network with international delegations. Throughout the week-long conference, participants can attend IAEA side meetings using their official IAEA badges, which will be provided as part of the program.

Event Dates and Proposed Agenda

* * * * Note that specific events and meeting times have yet to be confirmed * * * *

Sunday, September 15

2:00 p.m.-5:00 p.m. 1-1 Showtime Meetings with visiting ITA Staff

6:00 p.m.-8:00 p.m. U.S. Industry Welcome Reception

Monday, September 16

7:00 a.m. Industry Program Breakfast Begins

8:00-9:45 a.m. U.S. Policymakers Roundtable

9:45-10:00 a.m. Break

10:00-11:00 a.m. USG Dialogue with Industry

11:00 a.m.-6:00 p.m. IAEA Side Events

11:00 a.m.-12:30 p.m. Break

12:30-6:00 p.m. Country Briefings for Industry Delegation (presented by foreign delegates)

7:30-9:30 p.m. U.S. Mission to the IAEA Reception

Tuesday, September 17

9:00 a.m.-6:00 p.m. Country Briefings for Industry (presented by foreign delegates)

10:00 a.m.-6:00 p.m. IAEA Side Event Meetings

Wednesday, September 18

9:00 a.m.-6:00 p.m. Country Briefings for Industry (presented by foreign delegates)

10:00 a.m.-6:00 p.m. IAEA Side Event Meetings

Participation Requirements

All parties interested in participating in the trade mission must complete and submit an application package for consideration by the DOC. All applicants will be evaluated on their ability to meet certain conditions and best satisfy the selection criteria as outlined below. A minimum of 15 and maximum of 50 representatives from U.S. companies and/or trade associations and/or U.S. academic and research institutions will be selected to participate in the mission from the applicant pool. The first ten accepted applicants will be permitted to send two representatives per organization (if desired). After the first ten accepted applicants, additional representatives will be permitted only if space is available. Participating companies may send more than two participants if space permits. The Department of Commerce will evaluate applications and inform applicants of selection decisions [three weeks after publication in the Federal Register] and on a rolling basis thereafter.

Fees and Expenses

After a company or organization has been selected to participate on the mission, a payment to the DOC in the form of a participation fee is required. The fee covers ITA support to register U.S. industry participants for the IAEA General Conference. Expenses for travel, lodging, meals, and incidentals will be the responsibility of each mission participant. Interpreter and driver services can be arranged for additional cost. Participants will be able to take advantage of discounted rates for hotel rooms.

• The fee to participate in the event is $6,240 for a large company and $5,900 for a small or medium-sized company (SME), a trade association, or a U.S. university or research institution. The fee for each additional representative (large company, trade association, university/research institution, or SME) is $2,000.

• For more information on the mission and to complete the trade mission application, visit https://events.trade.gov/USIP2024IAEA.

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of USG rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade Mission members participate in trade missions and undertake mission-related travel at their own risk. The nature of the security situation in a given foreign market at a given time cannot be guaranteed. The USG does not make any representations or guarantees as to the safety or security of participants. The U.S. Department of State issues USG international travel alerts and warnings for U.S. citizens available at https://travel.state.gov/content/passports/en/alertswarnings.html. Any question regarding insurance coverage must be resolved by the participant and its insurer of choice. Participants are responsible for determining any travel requirements or restrictions that are in place due to COVID-19.

Travel and in-person activities are contingent upon the safety and health conditions in the United States and the mission countries. Should safety or health conditions not be appropriate for travel and/or in-person activities, the Department will consider postponing the event or offering a virtual program in lieu of an in-person agenda. In the event of a postponement, the Department will notify the public and applicants previously selected to participate in this mission will need to confirm their availability but need not reapply. Should the decision be made to organize a virtual program, the Department will adjust fees accordingly, prepare an agenda for virtual activities, and notify the previously selected applicants with the option to opt-in to the new virtual program.

Timeframe for Recruitment and Participation

Mission recruitment will be conducted in an open and public manner, including publication in the Federal Register, posting on the Commerce Department trade mission calendar (http://export.gov/trademissions), and notices by industry trade associations and other multiplier groups. Recruitment for the mission will begin immediately and conclude no later than July 26, 2024. The U.S. Department of Commerce will review applications and inform applicants of selection decisions on a rolling basis. Applications received after July 26, 2024, will be considered only if space and scheduling constraints permit.

Contacts

Jonathan Chesebro, Industry & Analysis, Office of Energy and Environmental Industries, Washington, DC, Tel: (202) 603-4968, Email: jonathan.chesebro@trade.gov

Emily Church, Industry & Analysis, Office of Energy and Environmental Industries, Washington, DC, Tel: (771) 215-7146, Email: emily.church@trade.gov

Dated: May 7, 2024.
Man Cho,
Deputy Director, ITA Office of Energy and Environmental Industries.

[FR Doc. 2024-10296 Filed 5-10-24; 8:45 am]

BILLING CODE 3510-DR-P